DEPARTMENT OF HEALTH AND HUMAN SERVICES

National Institutes of Health

Request for Information (RFI) on Proposed Simplified Review Framework for NIH Research Project Grant Applications; Correction

AGENCY: National Institutes of Health, HHS.

ACTION: Request for information; correction.

SUMMARY: The Department of Health and Human Services, National Institutes of Health published a Notice in the Federal Register on December 7, 2022. That Notice requires a correction in the SUPPLEMENTARY INFORMATION section.

FOR FURTHER INFORMATION CONTACT: Questions about this request for information should be directed to Office of Extramural Research, Dr. Kristin Kramer, Phone number (301) 437-0911, Email simplifiedreview@nih.gov.

SUPPLEMENTARY INFORMATION:

Correction

In the Federal Register of December 7, 2022 in FR Doc. 2022-26603, on pages 75056-75057, as found within the SUPPLEMENTARY INFORMATION section, which provides reference URLs to the following:

Proposal Development

March 2021 slides; currently reads https://public.csr.nih.gov/sites//files/2021-04/Simplifying_Review_Criteria_29_March_2021.pdf and is corrected to read https://public.csr.nih.gov/sites/default/files/2021-04/Simplifying_Review_Criteria_29_March_2021.pdf.

Final recommendations from the CSR Advisory Council report; currently reads https://public.csr.nih.gov/sitest/files/2021-04/Recommendations_of_the_CSRAC_Working_Group_on_Simplifying_Review-non-CT_and_CT.pdf and is corrected to read https://public.csr.nih.gov/sites/default/files/2021-04/Recommendations_of_the_CSRAC_Working_Group_on_Simplifying_Review-non-CT_and_CT.pdf.

Additional background information can be found here; currently reads https://grants.nih.gov/policyroposed-Framework/index.htm and is corrected to read https://grants.nih.gov/policy/peer/Proposed-Framework/index.htm

Proposed Revised Simplified Review Framework

Detailed descriptions of the three factors can be found here; currently reads https://grants.nih.gov/policyroposed-Framework/reviewer-guidance.htm and is corrected to read https://grants.nih.gov/policy/peer/Proposed-Framework/reviewer-guidance.htm.

Authority: 42 CFR part 52h.8.

Dated: December 8, 2022.
Daniel R. Hernandez,
NIH Federal Register Certifying Official, National Institutes of Health.

[FR Doc. 2022-27032 Filed 12-12-22; 8:45 am]

BILLING CODE 4140-01-P